DEPARTMENT OF HOMELAND SECURITY

Coast Guard

[Docket No. USCG-2022—0253]

National Towing Safety Advisory Committee; June 2022 Virtual Meeting

AGENCY: Coast Guard, Department of Homeland Security.

ACTION: Notice of Federal Advisory Committee virtual meeting.

SUMMARY: The National Towing Safety Advisory Committee (Committee) will conduct a virtual meeting to review and discuss matters relating to shallow-draft inland navigation, coastal waterway navigation, and towing safety. The Committee will also discuss new and existing tasking to include the Final Report for National Towing Safety Advisory Committee Task 21-01, that sought to identify the parameters Coast Guard officials should use to determine whether a vessel inspected under subchapters other than Subchapter M is performing “Occasional Towing”. This virtual meeting will be open to the public.

DATES: Meeting: The Committee will meet virtually on Tuesday, June 14, 2022, from 11:00 a.m. until 3:00 p.m. Eastern Daylight Time (EDT). This virtual meeting may close early if all business is finished.

Comments and supporting documentation: To ensure your comments are received by Committee members before the virtual meeting, submit your written comments no later than June 07, 2022.

ADDRESSES: To join the virtual meeting or to request special accommodations, contact the individual listed in the FOR FURTHER INFORMATION CONTACT section no later than 1 p.m. EDT on June 7, 2022, to obtain the needed information. The number of virtual meeting lines are limited and will be available on a first-come, first-served basis.

Instructions: You are free to submit comments at any time, including orally at the meeting as time permits, but if you want Committee members to review your comment before the meeting, please submit your comments no later than June 7, 2022. We are particularly interested in comments on the issues in the “Agenda” section below. We encourage you to submit comments through Federal eRulemaking Portal at https://www.regulations.gov. If your material cannot be submitted using https://www.regulations.gov, call or email the individual in the FOR FURTHER INFORMATION CONTACT section of this document for alternate instructions. You must include the docket number [USCG-2022-0253]. Comments received will be posted without alteration at https://www.regulations.gov including any personal information provided. For more about the privacy and submissions in response to this document, see DHS's eRulemaking System of Records notice (85 FR 14226, March 11, 2020). If you encounter technical difficulties with comment submission, contact the individual listed in the FOR FURTHER INFORMATION CONTACT section of this notice.

Docket Search: Documents mentioned in this notice as being available in the docket, and all public comments, will be in our online docket at https://www.regulations.gov, and can be viewed by following that website's instructions. Additionally, if you go to the online docket and sign-up for email alerts, you will be notified when comments are posted.

FOR FURTHER INFORMATION CONTACT: Mr. Matthew D. Layman, Designated Federal Officer of the National Towing Safety Advisory Committee, 2703 Martin Luther King Jr Ave. SE, Stop 7509, Washington, DC 20593-7509, telephone 202-372-1421, or Matthew.D.Layman@uscg.mil.

SUPPLEMENTARY INFORMATION: Notice of this meeting is in compliance with the Federal Advisory Committee Act, (5, U. S. C., appendix). The Committee was established on December 4, 2018, by § 601 of the Frank LoBiondo Coast Guard Authorization Act of 2018, (Pub. L. 115-282, 132 Stat. 4190), and codified in 46 U.S.C. 15108. The Committee operates under the provisions of the Federal Advisory Committee Act, (5 U.S.C. appendix), and 46 U.S.C. 15109. The National Towing Safety Advisory Committee provides advice and recommendations to the Department of Homeland Security, via the Commandant of the Coast Guard, on matters related to shallow-draft inland navigation, coastal waterway navigation, and towing safety.

Agenda

The agenda for the National Towing Safety Advisory Committee is as follows:

Tuesday, June 14, 2022

I. Opening

a. Call to order/DFO Remarks

b. NTSAC Chairperson Remarks

c. Roll Call

d. Coast Guard Leadership Remarks

II. Administration

a. Adoption of Meeting Agenda

b. Approval of Meeting Minutes for December 7th, 2021, Inaugural Meeting

III. Old Business

a. Final Report for Task #21-01, Recommendations for the Criteria Used to Apply the Term “Occasional Towing”

b. Update from NTSAC Subcommittees

(1) Task #21-03, Report On the Anticipated Challenges Expected to Impact the Towing Vessel Industry

(2) Task #21-04, Report on the Challenges Faced by the Towing Vessel Industry as a Result of the Covid-19 Pandemic

IV. New Business

a. NTSAC Planning

b. New Task Consideration for the NTSAC Vetting Committee

IV. NTSAC Committee Discussion

V. Public Comments

VI. Adjourn

A copy of all pre-meeting documentation will be available at https://www.dco.uscg.mil/Our-Organization/Assistant-Commandant-for-Prevention-Policy-CG-5P/Commercial-Regulations-standards-CG-5PS/Office-of-Operating-and-Environmental-Standards/vfos/TSAC/. Alternatively, you may contact Mr. Matthew Layman as noted above in the FOR FURTHER INFORMATION CONTACT section.

There will be a public comment period at the end of the meeting. Speakers are requested to limit their comments to 3 minutes. Please note that the public comment period may end before the period allotted, following the last call for comments. Contact Mr. Matthew Layman to register as a speaker.

Dated: May 24, 2022.
Jeffrey G. Lantz,
Director of Commercial Regulations and Standards.

[FR Doc. 2022-11560 Filed 5-27-22; 8:45 am]

BILLING CODE 9110-04-P